DEPARTMENT OF THE TREASURY

Internal Revenue Service

26 CFR Parts 1 and 301

[TD 9988]

RIN 1545-BQ63

Elective Payment of Applicable Credits; Correction

AGENCY: Internal Revenue Service (IRS), Treasury.

ACTION: Final rule; correction and correcting amendments.

SUMMARY: This document contains corrections to Treasury Decision 9988, which was published in the Federal Register for Monday, March 11, 2024. Treasury Decision 9988 issued final regulations concerning the election under the Inflation Reduction Act of 2022 to treat the amount of certain tax credits as a payment of Federal income tax.

DATES: These corrections are effective on August 16, 2024 and for dates of applicability see §§ 1.6417-1(q), 1.6417-2(f), 1.6417-3(f), 1.6417-4(f), 1.6417-5(d), 1.6417-6(e), 301.6241-1(b)(1), and 301.6241-7(k)(3).

FOR FURTHER INFORMATION CONTACT: Concerning these final regulations, Jeremy Milton at (202) 317-5665 and James Holmes at (202) 317-5114 (not toll-free numbers).

SUPPLEMENTARY INFORMATION:

Background

The final regulations (TD 9988) that are the subject of this correction are under section 6417 of the Code.

Corrections to Publication

Accordingly, the final regulations (TD 9988) that are the subject of FR Doc. 2024-04604, published on March 11, 2024, are corrected to read:

1. On page 17550, in the first column, in the fourth line from the top of the first full paragraph, the language “designed” is corrected to read “designated”.

2. On page 17552, in the third column, in the eighth line from the bottom of the first full paragraph, the language “cert denied” is corrected to read “cert. denied”.

3. On page 17559, in the third column, in the twelfth line from the top of the first partial paragraph, the language “[ ]” is corrected to read “...”.

4. On page 17560, in the first column, in the tenth line from the top of the first partial paragraph, the language “book” is corrected to read “books”.

5. On page 17561, in the second column, in the eighth line from the bottom of the last partial paragraph, the language “tax-exempt” is corrected to read, “tax exempt”.

6. On page 17561, in the third column, in the fifteenth line from the top of the first partial paragraph, the language “tax-exempt” is corrected to read “tax exempt”.

7. On page 17562, in the second column, the third line from the bottom of the second full paragraph is corrected to read, “so as not to incur an addition to tax due”.

8. On page 17575, in the first column, in the tenth line from the top of the first partial paragraph, the language “tax-exempt” is corrected to read “tax exempt”.

9. On page 17577, in the second column, in the tenth line from the top of the first full paragraph, the language “Section” is corrected to read “part”.

10. On page 17581, in the third column, the second line from the bottom of the last partial paragraph the language “Section” is corrected to read “section”.

11. On page 17582, in the third column, the last sentence of the first full paragraph is corrected to read, “Although there is uncertainty as to the exact number of small businesses within this group, the current estimated number of respondents to these final rules is 20,000 taxpayers.”.

12. On page 17583, in the first column, in the fourth line the from the bottom of the second full paragraph, the column is corrected to read, “verified or have received registration”.

List of Subjects in 26 CFR Part 1

Income taxes, Reporting and recordkeeping requirements.

Corrections to the Regulations

Accordingly, 26 CFR part 1 is corrected by making the following correcting amendments:

PART 1—INCOME TAXES

Paragraph 1. The authority citation for part 1 is amended by adding the entries for Sections 1.6417-0 through 1.6417-6 in numerical order and removing the entry for section 1.6417-5T to read in part as follows:

Authority: 26 U.S.C. 7805 * * *

* * * * *

Section 1.6417-0 also issued under 26 U.S.C. 6417(h).

Section 1.6417-1 also issued under 26 U.S.C. 6417(h).

Section 1.6417-2 also issued under 26 U.S.C. 6417(h).

Section 1.6417-3 also issued under 26 U.S.C. 6417(h).

Section 1.6417-4 also issued under 26 U.S.C. 6417(h).

Section 1.6417-5 also issued under 26 U.S.C. 6417(h).

Section 1.6417-6 also issued under 26 U.S.C. 6417(h).

* * * * *

Par. 2. Section 1.6417-0 is amended by revising the entry for § 1.6417-1(b) to read as follows:

§ 1.6417-0 Table of contents.

* * * * *

§ 1.6417-1 Elective payment election of applicable credits.

* * * * *

(b) Annual tax return.

* * * * *

§ 1.6417-2 [Corrected]

Par. 3. Section 1.6417-2 is amended by removing the language “book and records” in the second sentence of paragraph (b)(3)(i) and adding the language “books and records” in its place.

§ 1.6417-4 [Corrected]

Par. 4. Section 1.6417-4 is amended by removing the language “corporation. (such as, for investment” in paragraph (c)(1)(vi) and adding the language “corporation (such as, for investment” in its place.

Oluwafunmilayo A. Taylor,
Section Chief, Publications & Regulations Section, Associate Chief Counsel, (Procedure and Administration).

[FR Doc. 2024-17945 Filed 8-15-24; 8:45 am]

BILLING CODE 4830-01-P